GENERAL SERVICES ADMINISTRATION

[Notice-PBS-2018-02; Docket No. 2018-0002; Sequence No. 2]

Notice of Scoping Meeting and Intent To Prepare a Supplemental Environmental Impact Statement (SEIS) for the Madawaska-Edmundston International Bridge and New Land Port of Entry (LPOE) Project

AGENCY: Public Building Service (PBS), General Services Administration (GSA).

ACTION: Notice of intent; announcement of meeting.

SUMMARY: Pursuant to the requirements of the National Environmental Policy Act of 1969 (NEPA), the Council on Environmental Quality Regulations, and the GSA Public Buildings Service NEPA Desk Guide, GSA is issuing this notice to advise the public that a Supplemental Environmental Impact Statement (SEIS) will be prepared for the proposed construction of the Madawaska-Edmundston International Bridge and New Land Port of Entry (the Project).

DATES: Meeting Date: The Public Information and Scoping Session will be held on Wednesday, January 31, 2018, at 7:00 p.m., EST (Eastern Standard Time). Interested parties are encouraged to provide written comments on or before Monday, February 28, 2018.

ADDRESSES: Madawaska High School Cafeteria, 135 7th Avenue, Madawaska, Maine 04756. The session format includes a 30-minute Open House, followed by formal presentation and Question & Answer session.

Written comments can be submitted by either of the following methods:

• Regulations.gov: http://www.regulations.gov. Submit comments via the Federal eRulemaking portal by searching the Notice number. Select the link “Comment Now” that corresponds with “PBS-2018-02, Notice of Scoping Meeting and Intent to Prepare a Supplemental Environmental Impact Statement (SEIS) for the Madawaska-Edmundston International Bridge and New Land Port of Entry (LPOE) Project.” Follow the instructions provided on the screen. Please include your name, company name (if any), and “PBS-2018-02, Notice of Scoping Meeting and Intent to Prepare a Supplemental Environmental Impact Statement (SEIS) for the Madawaska-Edmundston International Bridge and New Land Port of Entry (LPOE) Project” on your attached document.

• Postal Mail: Ms. Alexas Kelly, Project Manager, GSA, 10 Causeway Street, 11th Floor, Boston, MA 02222.

FOR FURTHER INFORMATION CONTACT: Alexas Kelly, Project Manager, GSA, New England Region, at email alexandria.kelly@gsa.gov, or call 617-549-8190. Please also call this number if special assistance is needed to attend and participate in the public scoping meeting.

SUPPLEMENTARY INFORMATION:

Background

The purpose of the Project is to provide for the long-term safe and efficient flow of current and projected traffic volumes, including the movement of goods and people between Edmundston, New Brunswick and Madawaska, Maine. The Project is needed because (1) the existing International Bridge is nearing the end of its useful life, and (2) the existing Madawaska Land Port of Entry is substandard, inhibiting the agencies assigned to the Port from adequately fulfilling their respective missions.

The existing Madawaska-Edmundston International Bridge, opened in 1921, and its design life has exceeded. Notable bridge deficiencies are (1) substandard geometry—roadway width & clearance, (2) foundation susceptible to undermining, (3) piers cracked and deteriorated, (4) significant steel corrosion, (5) bridge capacity is insufficient, and (6) deficiencies prompting the bridge posting on October 27, 2017, from 50 tons to 5 tons.

A Final Environmental Impact Statement (FEIS) and Record of Decision (ROD) were published in January 2007, which addressed the construction of a new Madawaska LPOE.

Built in 1959, the current LPOE suffers from facility, operational and site deficiencies, and does not meet current Customs and Border Protection (CBP) mission & operational requirements for an LPOE. A few noted deficiencies: (1) Lack of office and inspection areas, (2) deficient inbound and outbound passenger and commercial processing areas, (3) inadequate queuing space for vehicles, and (4) inability to meet the Architectural Barriers Act. In furtherance of the LPOE Project, GSA previously acquired approximately nine acres of land, but did not commence construction.

An SEIS is needed due to a change in circumstance, specifically the decision by MaineDOT and New Brunswick Department of Transportation and Infrastructure (NBTI), which requires the existing Edmundston/Madawaska International Bridge be replaced and removed. The SEIS will address changes to the Project, including an updated design in accordance with current GSA and CBP requirements, and a reconfigured International Bridge approach (the totality of which may require additional land acquisition).

Scoping Process and Next Steps

Scoping will be accomplished through this public meeting, and direct mail correspondence, to appropriate Federal, state, and local agencies, and to private organizations and citizens who have previously expressed, or are known to have, an interest in the Project.

The primary purpose of the scoping process is for the public to assist GSA in developing the SEIS by identifying and determining the range and extent of relevant issues related to the Project. Alternatives will be developed with input from the local community through the scoping process. GSA will provide public notice of this and any subsequent public meetings in local newspapers, radio announcements, postings in prominent town locations, and other outreach actions.

Dated: January 29, 2018.
Drew Dilks,
Project Management Branch Chief, Design and Construction, Public Buildings Service.

[FR Doc. 2018-02164 Filed 2-2-18; 8:45 am]

BILLING CODE 6820-23-P